DEPARTMENT OF COMMERCE

National Oceanic and Atmospheric Administration

[Docket No. 030602141-5037-15; I.D. 012505A]

RIN 0648-ZB55

Availability of Grants Funds for Fiscal Year 2005/ Extension of Application Deadline

AGENCY: National Marine Fisheries Service (NMFS), National Oceanic and Atmospheric Administration (NOAA), Commerce.

ACTION: Notice.

SUMMARY: The NMFS publishes this notice to extend the solicitation period on the following four initiatives originally announced in the Federal Register on February 1, 2005: Alaska Marine Resources Educational Partnership Program; Chesapeake Bay Integrated Research Program Fisheries; Chesapeake Bay Integrated Research Program Submerged Aquatic Vegetation; and Chesapeake Bay Integrated Research Program Non-native Oyster Research. NOAA extends the solicitation period to provide the public more time to submit proposals. All other requirements for this solicitation remain the same.

DATES: Letters of intent for the three Chesapeake Bay initiatives must be submitted by 5 p.m. eastern time on March 1, 2005. Full proposals must be received by 5 p.m. eastern time on April 1, 2005. Letters of Intent for the Alaska Marine Resources Educational Partnership Program are due by 5 p.m. Alaska local time on March 1, 2005. Full proposals must be received by 5 p.m. Alaska local time on April 1, 2005. Paper applications may be submitted by applicants without Internet access and must be received (see ADDRESSES) by the same dates and times as electronic applications.

ADDRESSES: The address for submitting proposals electronically is: http://www.grants.gov/. (Electronic submission is strongly encouraged).

Paper submissions regarding the Fisheries, Submerged Aquatic Vegetation, and Non-native Oyster Research Programs should be sent to the following address: NOAA Chesapeake Bay Office, 410 Severn Avenue, Suite 107A, Annapolis, MD 21403, ATTN CBIRP - Fisheries, SAV, or Oyster, respectively.

Paper submissions regarding the Alaska Marine Resources Educational Partnership Program should be sent to the following address: MSI-Alaska Program Coordinator, National Marine Fisheries Service, Alaska Region, 709 W. 9th St., RM 420, Juneau, AK 99802 1668 ATTN: AMRSP.

Letters of intent for the three Chesapeake Bay initiatives may be sent via e-mail to derek.orner@noaa.gov.

FOR FURTHER INFORMATION CONTACT: Derek M. Orner, NOAA Chesapeake Bay Office, 410 Severn Avenue, Suite 107A, Annapolis, MD 21403, or by phone at 410 267 5676, or fax to 410 267 5666, or via e-mail at derek.orner@noaa.gov.

SUPPLEMENTARY INFORMATION: This notice extends the solicitation period of four initiatives announced in the Federal Register on February 1, 2005 (FO FR 5161).

Dated: February 24, 2005.
William T. Hogarth,
Assistant Administrator for Fisheries, National Marine Fisheries Service.

[FR Doc. 05-3937 Filed 2-28-05; 8:45 am]

BILLING CODE 3510-22-S